DEPARTMENT OF JUSTICE

Notice of Lodging of Proposed Consent Decree Under the Comprehensive Environmental Response, Compensation, and Liability Act

On April 21, 2014, the Department of Justice lodged a proposed Consent Decree with the United States District Court for the Western District of Washington, in the lawsuit entitled United States v. The State of Washington, Department of Natural Resources, Civil Action No. 14-cv-0588.

This Consent Decree settles claims under Sections 106 and 107 of CERCLA against the State of Washington acting through its Department of Natural Resources (“DNR”). The claims involve the Asarco Tacoma Smelter and Sediments/Groundwater Operable Units of the Commencement Bay Nearshore/Tideflats Superfund Site. Under the terms of the settlement, DNR agrees to pay $93,595.38 in past costs and assume future work, primarily long term operation and maintenance associated with underwater property it owns that is adjacent to the former Asarco Tacoma Smelter.

The publication of this notice opens a period for public comment on the Consent Decree. Comments should be addressed to the Assistant Attorney General, Environment and Natural Resources Division, and should refer to United States v. The State of Washington, D.J. Ref. No. 90-11-2-698/3. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $117.50 (25 cents per page reproduction cost) payable to the United States Treasury.

Susan M. Akers,
Assistant Section Chief, Environmental Enforcement Section, Environment and Natural Resources Division.

[FR Doc. 2014-09531 Filed 4-25-14; 8:45 am]

BILLING CODE 4410-15-P